DEPARTMENT OF COMMERCE

International Trade Administration

[A-533-877]

Stainless Steel Flanges From India: Final Results of Antidumping Duty Administrative Review; 2018-2019

AGENCY: Enforcement and Compliance, International Trade Administration, Department of Commerce.

SUMMARY: The Department of Commerce (Commerce) determines that exporters/producers of stainless steel flanges from India made sales at prices below normal value during the period of review (POR) March 28, 2018, through September 30, 2019.

DATES: Applicable August 26, 2021.

FOR FURTHER INFORMATION CONTACT: Benito Ballesteros, AD/CVD Operations, Office V, Enforcement and Compliance, International Trade Administration, U.S. Department of Commerce, 1401 Constitution Avenue NW, Washington, DC 20230; telephone: (202) 482-7425.

SUPPLEMENTARY INFORMATION:

Background

On February 24, 2021, Commerce published the Preliminary Results.¹ On April 2, 2021, we received timely-filed case briefs from Bebitz Flanges Works Private Limited (Bebitz) ² Chandan Steel Limited (Chandan),³ and Pradeep Metals Limited,⁴ and a joint brief from Balkrishna et al. and Bebitz.⁵ On April 9, 2021, the petitioner timely filed its rebuttal brief.⁶ On May 11, 2021, Commerce held a public hearing, limited to the issues raised in the case and rebuttal briefs.⁷ On June 2, 2021, we extended the deadline for the final results of this review until August 20, 2021.⁸ For a complete description of the events that occurred since the Preliminary Results, see the Issues and Decision Memorandum.⁹

¹ See Stainless Steel Flanges from India: Preliminary Results of Antidumping Duty Administrative Review; 2018-2019, 86 FR 11233 (February 24, 2021) (Preliminary Results), and accompanying Preliminary Decision Memorandum.

² See Bebitz's Letter, “Stainless Steel Flanges from India: Case Brief,” dated April 2, 2021.

³ On April 30, 2021, we rejected Chandan's case brief for relying on untimely-filed new factual information (NFI). See Commerce Letter, “Antidumping Duty Administrative Review of Stainless Steel Flanges from India: Rejection of New Factual Information,” dated April 30, 2021. Therefore, on May 4, 2021, Chandan refiled its case brief after removing the NFI. See Chandan's Letter, “Certain Stainless Steel Flanges from India (A-533-877—AR1), Submission of Case Brief for Chandan Steel (Refile),” dated May 4, 2021.

⁴ See Pradeep Metals' Letter, “Certain Stainless Steel Flanges from India (A-533-877—AR1), Submission of Case Brief for Pradeep Metals Limited,” dated April 2, 2021.

⁵ See Balkrishna et al./Bebitz's Letter, “Stainless Steel Flanges from India: `All Other' Case Brief,” dated April 2, 2021.

⁶ On July 19, 2021, we rejected the petitioner's rebuttal brief for containing citations to untimely-filed NFI submitted by Chandan. See Commerce's Letter, “Antidumping Duty Administrative Review of Stainless Steel Flanges from India: Rejection of Petitioner's Rebuttal Brief,” dated July 19, 2021. On July 21, 2021, the petitioner refiled its rebuttal brief after removing the NFI. See Petitioner's Letter, “Stainless Steel Flanges from India: Resubmission of Petitioner's Rebuttal Brief,” dated July 21, 2021.

⁷ See Hearing Transcript, “The Administrative Review of the Antidumping Duty Order on Stainless Steel Flanges from India: Public Hearing,” dated May 11, 2021.

⁸ See Memorandum, “Stainless Steel Flanges from India: Extension of Deadline for Final Results of Antidumping Duty Administrative Review; 2018-2019,” dated June 2, 2021.

⁹ See Memorandum, “Stainless Steel Flanges from India: Issues and Decision Memorandum for the Final Results of the Antidumping Duty Administrative Review; 2018-2019,” dated August 20, 2021 (Issues and Decision Memorandum) which is dated concurrently with, and hereby adopted by, this notice.

Scope of the Order

The merchandise covered by the order is stainless steel flanges from India. For a complete description of the scope of this order, see the Issues and Decision Memorandum.¹⁰

¹⁰ Id.

Analysis of Comments Received

We addressed all issues raised in the case and rebuttal briefs in the Issues and Decision Memorandum. Attached to this notice, in Appendix I, is a list of the issues which parties raised. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/index.html/.

Changes Since the Preliminary Results

Based on a review of the record and comments received from interested parties, and for the reasons explained in the Issues and Decision Memorandum, we made no changes to the Preliminary Results.¹¹

¹¹ Id.

Rate for Non-Selected Companies

In accordance with the U.S. Court of Appeals for the Federal Circuit's decision in Albemarle,¹² Commerce continues to assign to the companies not individually examined (see Appendix II for a full list of these companies) a margin of 145.25 percent, which is the dumping margin assigned to mandatory respondent Chandan. Commerce has addressed arguments from various interested parties regarding this rate, which we assigned to the non-examined companies in the Preliminary Results, and, for the final results, the determination remains unchanged, as discussed in the Issues and Decision Memorandum.¹³

¹² See Preliminary Results (citing Albemarle Corp. v. United States, 821 F. 3d 1345 (Fed. Cir. 2016) (Albemarle)).

¹³ See Issues and Decision Memorandum at Comment 3.

Final Results of Administrative Review

We are assigning the following dumping margin to the firms listed below for the POR, March 28, 2018, through September 30, 2019:

Exporter/producer | Dumping margin (percent) | Cash deposit rate (adjusted for subsidy offsets) (percent) 14
Chandan Steel Limited | 145.25 | 140.38
Companies Not Individually Examined (excluding Bebitz Flanges Works Private Limited) 15 | 145.25 | 140.38
Bebitz Flanges Works Private Limited 16 | 145.25 | 145.25

Disclosure

¹⁴ See Stainless Steel Flanges from India: Final Affirmative Determination of Sales at Less Than Fair Value and Final Affirmative Critical Circumstance Determination, 83 FR 40745 (August 16, 2018).

¹⁵ See Appendix II.

¹⁶ See Issues and Decision Memorandum at Comment 4.

Normally, Commerce discloses the calculations performed in its analysis to parties in a review within five days of the date of publication of the notice of final results, in accordance with 19 CFR 351.224(b). However, because Commerce applied a rate based on total AFA to the mandatory respondent in this review, in accordance with section 776 of the Act, there are no calculations to disclose.

Assessment Rates

Pursuant to section 751(a)(2)(C) of the Tariff Act of 1930, as amended (the Act), and 19 CFR 351.212(b), Commerce has determined, and U.S. Customs and Border Protection (CBP) shall assess, antidumping duties on all appropriate entries covered by this review. We intend to issue appropriate assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).¹⁷

¹⁷ See Notice of Discontinuation of Policy to Issue Liquidation Instructions After 15 Days in Applicable Antidumping and Countervailing Duty Administrative Proceedings, 86 FR 3995 (January 15, 2021).

For the final results, we will instruct CBP to apply an ad valorem assessment rate equal to the dumping margins shown above to all entries of subject merchandise during the POR which were produced and/or exported by Chandan or exported by the companies which were not selected for individual examination. We intend to instruct CBP to take into account the “provisional measures deposit cap,” in accordance with 19 CFR 351.212(d).

Cash Deposit Requirements

The following cash deposit requirements will be effective upon publication of the notice of the final results of this administrative review for all shipments of the subject merchandise entered, or withdrawn from warehouse, for consumption on or after the publication date, as provided for by section 751(a)(2) of the Act: (1) The cash deposit rate for Chandan and the companies not individually examined will be equal to the rates established in the final results of this administrative review; (2) for merchandise exported by producers or exporters not covered by this review but covered by a prior segment of the proceeding, the cash deposit rate will continue to be the company-specific rate published for the most recently completed segment of this proceeding; (3) if the exporter is not a firm covered by this review or the original less-than-fair-value (LTFV) investigation, but the producer is, then the cash deposit rate will be the rate established for the most recently completed segment of this proceeding for the producer of the merchandise; (4) the cash deposit rate for all other producers or exporters will continue to be 14.29 percent,¹⁸ the all-others rate established in the LTFV investigation. These cash deposit requirements, when imposed, shall remain in effect until further notice.

¹⁸ See Stainless Steel Flanges from India: Antidumping Duty Order, 83 FR 50639 (October 9, 2018) (Order).

Notification to Importers

This notice serves as a final reminder to importers of their responsibility under 19 CFR 351.402(f) to file a certificate regarding the reimbursement of antidumping duties prior to liquidation of the relevant entries during this POR. Failure to comply with this requirement could result in Commerce's presumption that reimbursement of antidumping duties occurred and the subsequent assessment of doubled antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing this notice in accordance with sections 751(a)(1) and 777(i) of the Act.

Dated: August 20, 2021.
Ryan Majerus,
Deputy Assistant Secretary for Policy and Negotiations.

Appendix I—List of Topics Discussed in the Issues and Decision Memorandum

I. Summary

II. Background

III. Scope of the Order

IV. Discussion of the Issues

Comment 1: Application of AFA to Chandan

Comment 2: Selection of the AFA Rate

Comment 3: All-Others Rate for Non-Examined Companies

Comment 4: Export Subsidies Offset

V. Recommendation

Appendix II—List of Non-Examined Companies

1. Arien Global

2. Armstrong International Pvt. Ltd

3. Avinimetal

4. Balkrishna Steel Forge Pvt. Ltd

5. Bebitz Flanges Works Private Limited

6. Bee Gee Enterprises

7. Bsl Freight Solutions Pvt., Ltd

8. CD Industries (Prop. Kisaan Engineering Works Pvt. Ltd)

9. Cipriani Harrison Valves Pvt. Ltd

10. CTL Logistics (India) Pvt. Ltd

11. Echjay Forgings Private Ltd ¹⁹

¹⁹ In the Initiation Notice, this company also appeared as “Echjay Forgings Private Limited.” See Initiation of Antidumping and Countervailing Duty Administrative Reviews, 84 FR 67712, 67714 (December 11, 2019) (Initiation Notice).

12. Fivebros Forgings Pvt. Ltd

13. Fluid Controls Pvt. Ltd

14. Geodis Oversea Pvt., Ltd

15. Globelink WW India Pvt., Ltd

16. Goodluck India Ltd

17. Hilton Metal Forging Limited

18. Jai Auto Pvt. Ltd

19. JAY JAGDAMBA FORGINGS PRIVATE LIMITED

20. JAY JAGDAMBA LIMITED ²⁰

²⁰ In the Initiation Notice, this company also appeared as “Jay Jagdamba Ltd.” Id.

21. JAY JAGDAMBA PROFILE PRIVATE LIMITED

22. Kisaan Die Tech

23. Kunj Forgings Pvt. Ltd

24. Montane Shipping Pvt., Ltd

25. Noble Shipping Pvt. Ltd

26. Paramount Forge

27. Pashupati Tradex Pvt., Ltd

28. Peekay Steel Castings Pvt. Ltd

29. Pradeep Metals Ltd

30. R D Forge Pvt., Ltd

31. Rolex Fittings India Pvt. Ltd

32. Rollwell Forge Pvt. Ltd

33. Safewater Lines (I) Pvt. Ltd

34. Saini Flange Pvt. Ltd

35. SAR Transport Systems

36. Shilpan Steelcast Pvt. Ltd

37. Shree Jay Jagdamba Flanges Pvt. Ltd

38. Teamglobal Logistics Pvt. Ltd

39. Technical Products Corporation

40. Technocraft Industries India Ltd

41. Transworld Global

42. VEEYES Engineering Pvt. Ltd

43. Vishal Shipping Agencies Pvt. Ltd

44. Yusen Logistics (India) Pvt. Ltd

[FR Doc. 2021-18367 Filed 8-25-21; 8:45 am]

BILLING CODE 3510-DS-P